DEPARTMENT OF THE TREASURY

Internal Revenue Service

26 CFR Part 1

[REG-124123-22]

RIN 1545-BQ57

Corporate Bond Yield Curve for Determining Present Value; Hearing Cancellation

AGENCY: Internal Revenue Service (IRS), Treasury.

ACTION: Cancellation of a public hearing on a proposed rulemaking.

SUMMARY: This document cancels a public hearing on proposed regulations specifying the methodology for constructing the corporate bond yield curve that is used to derive the interest rates used in calculating present value and making other calculations under a defined benefit plan, as well as for discounting unpaid losses and estimated salvage recoverable of insurance companies.

DATES: The public hearing scheduled for August 30, 2023, at 10 a.m. ET is cancelled.

FOR FURTHER INFORMATION CONTACT: Vivian Hayes of the Publications and Regulations Branch, Associate Chief Counsel (Procedure and Administration) at (202) 317-6901 (not a toll-free number).

SUPPLEMENTARY INFORMATION: A notice of proposed rulemaking and a notice of public hearing that appeared in the Federal Register on June 23, 2023 (88 FR 41047) announced that a public hearing being held in person and by teleconference was scheduled for August 30, 2023, at 10 a.m. ET. The subject of the public hearing is under 26 CFR part 1.

The public comment period for these regulations expired on August 22, 2023. The notice of proposed rulemaking and notice of public hearing instructed those interested in testifying at the public hearing to submit a request to testify and an outline of the topics to be addressed. We did not receive a request to testify at the Public Hearing. Therefore, the public hearing scheduled for August 30, 2023, at 10 a.m. ET is cancelled.

Oluwafunmilayo A. Taylor,
Branch Chief, Publications and Regulations Branch, Associate Chief Counsel, (Procedure & Administration).

[FR Doc. 2023-18622 Filed 8-28-23; 8:45 am]

BILLING CODE 4830-01-P